DEPARTMENT OF TRANSPORTATION

Federal Aviation Administration

Government/Industry Aeronautical Charting Forum Meeting

AGENCY: Federal Aviation Administration (FAA), DOT.

ACTION: Notice of public meeting.

SUMMARY: This notice announces the bi-annual meeting of the Federal Aviation Administration (FAA) Aeronautical Charting Forum (ACF) to discuss informational content and design of aeronautical charts and related products, as well as instrument flight procedures development policy and design criteria.

DATES: The ACF is separated into two distinct groups. The Instrument Procedures Group (IPG) will meet October 27, 2015 from 8:30 a.m. to 5:00 p.m. The Charting Group will meet October 28 and 29, 2015 from 8:30 a.m. to 5:00 p.m.

ADDRESSES: The meeting will be held at the United States Geological Survey (USGS) Headquarters at 12201 Sunrise Valley Drive, Reston, VA 20192.

FOR FURTHER INFORMATION CONTACT: For information relating to the Instrument Procedures Group, contact Thomas E. Schneider, FAA, Flight Procedures Standards Branch, AFS-420, 6500 South MacArthur Blvd., P.O. Box 25082, Oklahoma City, OK 73125; telephone: (405) 954-5852.

For information relating to the Charting Group, contact Valerie S. Watson, FAA, Aeronautical Information Services, Governance & Standards, AJV-553, 1305 East-West Highway, SSMC4, Station 3409, Silver Spring, MD 20910; telephone: (301) 427-5155.

SUPPLEMENTARY INFORMATION: Pursuant to § 10(a)(2) of the Federal Advisory Committee Act (Pub. L. 92-463; 5 U.S.C. App. II), notice is hereby given of a meeting of the FAA Aeronautical Charting Forum to be held from October 27 through October 29, 2015, from 8:30 a.m. to 5:00 p.m. at USGS Headquarters at 12201 Sunrise Valley Drive, Reston, VA 20192, in the Auditorium (Room 1C111).

The Instrument Procedures Group agenda will include briefings and discussions on recommendations regarding pilot procedures for instrument flight, as well as criteria, design, and developmental policy for instrument approach and departure procedures.

The Charting Group agenda will include briefings and discussions on recommendations regarding aeronautical charting specifications, flight information products, and new aeronautical charting and air traffic control initiatives. Attendance is open to the interested public, but will be limited to the space available.

Please note the following special security requirements for access to the USGS Headquarters. All visitors must enter at the Visitors Entrance and pass through security screening process. All packages, briefcases, handbags, etc. will be scanned. Visitors must sign in and present a picture I.D., such as a State's driver's license. The guard will then issue a visitor's badge which must be worn at all times.

All foreign national participants are required to have a passport. Additionally, not later than October 15, 2015, foreign national attendees must provide their name, country of citizenship, company/organization representing, passport number, passport expiration date, issuing country of passport, and country of the company/organization. Send the information to: Lance Christian via Email to: lance.d.christian@nga.mil. Foreign nationals who do not provide the required information will not be allowed entrance—NO EXCEPTIONS.

Attendees bringing laptop computers for use at during the conference are required to register their laptop when registering to enter the USGS facility. Attendees are to write the word “laptop” and the serial number on the sign-in beneath their printed name.

The public must make arrangements by October 8, 2015, to present oral statements at the meeting. The public may present written statements and/or new agenda items to the forum by providing a copy to the person listed in the FOR FURTHER INFORMATION CONTACT section not later than October 8, 2015. Public statements will only be considered if time permits.

Issued in Washington, DC, on August 6, 2015.
Valerie S. Watson,
Co-Chair, Aeronautical Charting Forum.

[FR Doc. 2015-20146 Filed 8-14-15; 8:45 am]

BILLING CODE 4910-13-P